DEPARTMENT OF AGRICULTURE

Agricultural Marketing Service

7 CFR Part 56

[Docket No. PY-02-003]

RIN 0581-AC25

Updating Administrative Requirements for Voluntary Shell Egg, Poultry, and Rabbit Grading

Correction

In rule document 06-6159 beginning on page 42006 in the issue of Monday, July 24, 2006, make the following corrections:

§ 56.1 [Corrected]

1. On page 42007, in the first column, in § 56.1, in amendatory instruction 2.A., “Service” should read “Service”.

§56.9 [Corrected]

2. On page 42008, in the first column, in § 56.9(b), in the table, in the second column, in the ninth entry, “56.52(a)(l)” should read “56.52(a)(1)”.

[FR Doc. C6-6159 Filed 8-16-06; 8:45 am]

BILLING CODE 1505-01-D

DEPARTMENT OF DEFENSE

Department of the Army

Availability of the Draft Environmental Assessment for an Airspace Proposal in the Ft. Campbell, KY Area

Correction

In notice document 06-6790 appearing on page 45536 in the issue of Wednesday, August 9, 2006, make the following corrections:

1. In the first column, the subagency heading should read as set forth above.

2. In the second column, under SUPPLEMENTARY INFORMATION, under paragraph 2., in entry (1), in the first line “Dial Corty” should read “Dial Cordy”.

[FR Doc. C6-6790 Filed 8-16-06; 8:45 am]

BILLING CODE 1505-01-D